FEDERAL COMMUNICATIONS COMMISSION

47 CFR Part 73

[MB Docket No. 22-151; RM-11927; DA 23-229; FR ID 133158]

Television Broadcasting Services Hampton, Virginia

AGENCY: Federal Communications Commission.

ACTION: Final rule.

SUMMARY: On April 13, 2022, the Media Bureau, Video Division (Bureau) issued a Notice of Proposed Rulemaking (NPRM) in response to a petition for rulemaking filed by WVEC Television, LLC (Petitioner), the licensee of WVEC (Station or WVEC), channel 11, Hampton, Virginia, requesting the substitution of channel 35 for channel 11at Hampton in the Table of TV Allotments. For the reasons set forth in the Report and Order referenced below, the Bureau amends Federal Communications Commission (FCC) regulations to substitute channel 35 for channel 11 at Hampton.

DATES: Effective March 27, 2023.

FOR FURTHER INFORMATION CONTACT: Joyce Bernstein, Media Bureau, at (202) 418-1647 or Joyce.Bernstein@fcc.gov.

SUPPLEMENTARY INFORMATION: The proposed rule was published at 87 FR 23154 on April 19, 2022. The Petitioner filed comments in support of the petition reaffirming its commitment to apply for channel 35. No other comments were filed.

The Bureau believes the public interest would be served by substituting channel 35 for channel 11 at Hampton, Virginia. The Petitioner states that the Commission has recognized that VHF channels have certain characteristics that pose challenges for their use in providing digital television service, including propagation characteristics that allow undesired signals and noise to be receivable at relatively far distances. According to the Petitioner, it has received many complaints from viewers unable to receive a reliable signal on channel 11, despite being able to receive the NBC, CBS, and FOX network affiliates in the Norfolk, Virginia, market, all of which operate on UHF channels. The proposed channel change would not cause any loss of service to viewers of WVEC's existing coverage area. The proposed channel 35 facility causes 1.38 percent interference to WFMY-TV, Greensboro, North Carolina, in excess of the amount allowed in the Commission's rules. That station is also owned by the Petitioner and it provides an Interference Acceptance Consent letter from the station agreeing to accept the interference from the proposed channel 35 facility as Exhibit C to the Rulemaking Petition. In addition, the proposed facility was predicted to cause prohibited interference to WYSJ-CD, Yorktown, Virginia. An application for minor modification to co-locate WYSJ-CD with WVEC's proposed channel 35 facility (LMS File No. 0000188559), eliminating the adjacent-channel interference, was granted simultaneously with the issuance of the Order. See NPRM at para. 3, n.7.

This is a synopsis of the Commission's Report and Order, MB Docket No. 22-151; RM-11927; DA 23-229, adopted March 16, 2023, and released March 16, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under Virginia, by revising the entry for Hampton to read as follows:

§ 73.622 Digital television table of allotments.

* * * * *

(j) * * *

Community | Channel No.
* * * * *
VIRGINIA
* * * * *
Hampton | 35
* * * * *

[FR Doc. 2023-06237 Filed 3-24-23; 8:45 am]

BILLING CODE 6712-01-P